DEPARTMENT OF THE INTERIOR

Bureau of Land Management

[MT-924-1430-ET; MTM 89170]

Notice of Proposed Extension of Public Land Order No. 7464; Opportunity for Public Meeting; Montana

AGENCY: Bureau of Land Management, Interior.

ACTION: Notice.

SUMMARY: The Bureau of Land Management proposes to extend the duration of Public Land Order (PLO) No. 7464 for an additional 5-year period. PLO 7464 withdrew 3,530.62 acres of public land in Phillips County, Montana from settlement, sale, location and entry under the general land laws, including the United States mining laws, to facilitate reclamation of a mine site.

DATES: Comments and requests for a public meeting must be received by October 12, 2005.

ADDRESSES: Comments and meeting requests should be sent to the Montana State Director, BLM, PO Box 36800, Billings, Montana 59107-6800.

FOR FURTHER INFORMATION CONTACT: Tami Lorenz, BLM, Montana State Office, 406-896-5053, or Sandy Ward, BLM, Montana State Office, 406-896-5052.

SUPPLEMENTARY INFORMATION: The withdrawal created by PLO No. 7464 (65 FR 59463) will expire on October 4, 2005, unless extended. The Bureau of Land Management (BLM) has filed an application to extend PLO No. 7464 for an additional 5-year period. The withdrawal was made to protect the reclamation of the Zortman-Landusky mining area described as follows:

Principal Meridian, Montana

T. 25 N., R. 24 E.,

Sec. 1, lot 13;

Sec. 10, lots 7 to 11, inclusive, and NE¼SE¼;

Sec. 11, lots 8 and 9;

Sec. 12, lots 8, 11, 12, 13, 17, 18, 19, 20 and 22, and SE¼SW¼;

Sec. 13, NE¼NE¼ and W½NW¼;

Sec. 14, lots 1 to 11, inclusive, E½NE¼, SW¼NE¼, and N½SE¼;

Sec. 15, lots 4 to 18, inclusive;

Sec. 21, E½NE¼, NE¼SE¼, and W½SE¼SE¼;

Sec. 22, lot 1, lots 3 to 7, inclusive, SE¼NE¼, W½NW¼, N½SW¼, E½SW¼SW¼,

SE¼SW¼, N½SE¼, E½SE¼SE¼, NW¼SE¼SE¼, E½SW¼SE¼SE¼, and NW¼SW¼SE¼SE¼;

Sec. 23, N½.

T. 25 N., R. 25 E.,

Sec. 6, lots 13 to 17, inclusive, NE¼SW¼, and SE¼;

Sec. 7, lots 5 to 9, inclusive, lots 14, 17, 18, 22, 23, and 24, lots 26 to 31, inclusive, and NW¼NE¼;

Sec. 8, SW¼SW¼;

Sec. 16, lot 2, N½NW¼SW¼, N½SE¼NW¼SW¼, S½S½SW¼SW¼, NE¼SE¼SW¼, S½SE¼SW¼, and SW¼SE¼;

Sec. 17, lots 3 and 4, NE¼, E½NW¼, N½N½NE¼SE¼, N½NE¼NW¼SE¼,

SW¼NE¼NW¼SE¼, W½NW¼SE¼, W½SE¼NW¼SE¼, W½NE¼SW¼SE¼, W½SW¼SE¼, SE¼SW¼SE¼, and S½SE¼SE¼;

Sec. 18, lots 1 to 5, inclusive, lots 8, 9, and 10, and SW¼NE¼.

The area described contains 3,530.62 acres in Phillips County.

The proposed withdrawal extension would allow reclamation of the Zortman and Landusky mining area to be continued without the interference of further locations under the United States mining laws.

As extended, the withdrawal would not alter the applicability of those public land laws governing the use of the land under lease, license, or permit, or governing the disposal of their mineral or vegetative resources other than under the mining laws.

The use of a right-of-way, or interagency, or cooperative agreement are not considered to be desirable or acceptable alternatives.

There are no suitable alternative sites available where the withdrawal would facilitate mine reclamation since the location of the Zortman and Landusky mines and the necessary reclamation materials are fixed.

No water rights will be needed to fulfill the purpose of the requested withdrawal.

For a period of 90 days from the date of publication of this notice, all persons who wish to submit comments, suggestions, or objections in connection with the proposed withdrawal extension may present their views in writing to the Montana State Director of the Bureau of Land Management at the address noted above.

Comments, including names and street addresses of respondents, will be available for public review at the BLM Malta Field Office, 501 South 2nd Street East, HC 65, Box 5000, Malta, Montana 59538-0047, during regular business hours 8 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested persons who desire a public meeting for the purpose of being heard on the proposed withdrawal extension must submit a written request to the Montana State Director, BLM within 90 days from the date of publication of this notice. If the authorized officer determines that a public meeting will be held, a notice of the time and place will be published in the Federal Register at least 30 days before the scheduled date of the meeting.

This withdrawal extension proposal will be processed in accordance with the applicable regulations set forth in 43 CFR 2310.4.

(Authority: 43 CFR 2310.3-1)

Dated: February 9, 2005.
Howard A. Lemm,
Deputy State Director, Division of Resources.

[FR Doc. 05-13887 Filed 7-13-05; 8:45 am]

BILLING CODE 4310-$$-P